DEPARTMENT OF DEFENSE

Office of the Secretary

Deputy Secretary of Defense Policy Memorandum, Subject: Ensuring the Quality of Information Disseminated to the Public by the Department of Defense, Dated February 10, 2003

AGENCY: Assistant Secretary of Defense for Public Affairs, DoD.

ACTION: Notice of availability.

SUMMARY: This notice is being published to notify interested persons of a new Web site address. The Department of Defense Memorandum, previously available at a different address, providing final guidelines for ensuring and maximizing the quality, objectivity, utility, and integrity of information disseminated to the public are available on Web site: http://www.defenselink.mil/pubs/. The Department of Defense published an earlier notice of availability for these guidelines on March 26, 2003 (68 FR 14599).

DATES: February 10, 2003.

ADDRESSES: Ms. Janet Unger, OASD (PA), Office of the Assistant Secretary of Defense for Public Affairs, 1400 Defense Pentagon, Washington, DC 20301-1400.

FOR FURTHER INFORMATION CONTACT: Ms. Janet Unger, OASD (PA), 703-428-0593, junger@hq.afis.osd.mil.

Dated: September 17, 2003.
Patricia L. Toppings,
Alternate OSD Federal Register Liaison Officer, Department of Defense.

[FR Doc. 03-24440 Filed 9-26-03; 8:45 am]

BILLING CODE 5001-08-M